DEPARTMENT OF VETERANS AFFAIRS

Publication of Wait-Times for the Department for the Veterans Choice Program

AGENCY: Department of Veterans Affairs.

ACTION: Notice.

SUMMARY: In keeping with its commitment to improve transparency, the Department of Veterans Affairs' (VA) publishes wait-times for the scheduling of appointments in each VA facility for primary care, specialty care, and mental health services every two weeks. The Department also publishes a Federal Register Notice every 90 days with the address of the Web site where this wait-time data can be accessed. This Federal Register Notice announces the availability of the data on that Web site.

ADDRESSES: The wait-time data for all Veterans Health Administration (VHA) medical centers and clinics is available on the following Web site: http://www.va.gov/health/access-audit.asp.

FOR FURTHER INFORMATION CONTACT: Ms. Kristin J. Cunningham, Director, Business Policy (10NB6), Chief Business Office, Veterans Health Administration, 810 Vermont Avenue NW., Washington, DC 20420 Telephone: (202) 382-2508. (This is not a toll-free number.)

SUPPLEMENTARY INFORMATION: Section 206 of the Veterans Access, Choice, and Accountability Act of 2014 (Pub. L. 113-146, “the Act”) directs the Department of Veterans Affairs (VA), not later than 90 days after the date of the enactment of the Act, to publish in the Federal Register, and on a publicly-accessible Internet Web site of each VA Medical Center, the wait-times for the scheduling of an appointment in each VA facility by a veteran for the receipt of primary care, specialty care, and hospital care and medical services based on the general severity of the condition of the veteran. Whenever the wait-times for the scheduling of such an appointment change, the Secretary is also required to publish the revised wait-times on a publicly-accessible Internet Web site of each VA Medical Center not later than 30 days after such change, and in the Federal Register not later than 90 days after such change.

The Department publishes wait-times for the scheduling of appointments in each VA facility for primary care, specialty care, and mental health services every two weeks. VA also publishes a Federal Register Notice every 90 days to notify the public of the availability of this wait-time data. This wait-time data uses the Veteran's preferred date or the clinically appropriate date for scheduling an appointment.

This Federal Register Notice announces the publication of the most recent wait-times of VHA for primary care and specialty care as required by section 206 of the Act, and well as mental health care wait-times. The wait-time data report, which also includes data at the Community-Based Outpatient Clinic level for all VA facilities, can be found using the following link: http://www.va.gov/health/access-audit.asp.

VA continues working to develop an accurate method for tracking and reporting wait times for hospital care and medical services and will begin reporting that data as soon as it is available.

Signing Authority

The Secretary of Veterans Affairs, or designee, approved this document and authorized the undersigned to sign and submit the document to the Office of the Federal Register for publication electronically as an official document of the Department of Veterans Affairs. Jose D. Riojas, Chief of Staff, Department of Veterans Affairs, approved this document on January 30, 2015, for publication.

Dated: January 30, 2015
Michael P. Shores,
Chief Impact Analyst, Office of Regulation Policy & Management, Office of the General Counsel, Department of Veterans Affairs.

[FR Doc. 2015-02205 Filed 2-3-15; 8:45 am]

BILLING CODE 8320-01-P